DEPARTMENT OF HOUSING AND URBAN DEVELOPMENT

[Docket No. FR-5753-N-03]

60-Day Notice of Proposed Information Collection: Housing Opportunities for Persons With AIDS (HOPWA) Program: Annual Grantee Performance Reporting Requirements and Competitive/Renewal Grant Project Budget Summary

AGENCY: Office of the Assistant Secretary for Community Planning and Development, HUD.

ACTION: Notice of proposed information collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 23, 2014.

ADDRESSES: Interested persons are invited to submit comments regarding this proposal. Comments should refer to the proposal by name and/or OMB Control Number and should be sent to: Colette Pollard, Reports Management Officer, QDAM, Department of Housing and Urban Development, 451 7th Street SW., Washington, DC 20410; email Colette Pollard at Colette.Pollard@hud.gov or telephone 202-402-3400, for a copy of the proposed forms or other available information. Persons with hearing or speech impairments may access this number through TTY by calling the toll-free Federal Relay Service at (800) 877-8339.

FOR FURTHER INFORMATION CONTACT: Eric Pfeifer, Management Analyst, CPD, Office of HIV/AIDS Housing, Department of Housing and Urban Development, 451 7th Street SW., Room 7212, Washington, DC 20410-5000; telephone 202-708-1934 (this is not a toll-free number) or email at eric.m.pfeifer@hud.gov. This is not a toll-free number. Persons with hearing or speech impairments may access this number through TTY by calling the toll-free Federal Relay Service at (800) 877-8339. Copies of available documents submitted to OMB may be obtained from Mr. Pfeifer.

SUPPLEMENTARY INFORMATION: This notice informs the public that HUD is seeking approval from OMB for the information collection described in Section A.

A. Overview of Information Collection

Title of Information Collection: Annual Grantee Performance Reporting Requirements and Competitive/Renewal Grant Project Budget Summary forms.

OMB Approval Number: 2506-0133.

Type of Request: Extension of currently approved collection, without change.

Form Number: HUD-40110-B, HUD-40110-C; and HUD-40110-D.

Description of the Need for the Information and Proposed Use: The HOPWA Competitive Application and Renewal of Permanent Supportive Housing Project Budget Summary, HUD-40110-B, is a grant applicant submission requirement for new competitive grant applications solicited through a Notice of Funding Availability (NOFA) and for all annual expiring renewal grant reviews. The budget form enables an evaluation of competitive grant applications to determine if the proposed project activity is feasible within the context of the overall program design inclusive of proposed planned and actual accomplishments. The Annual Progress Report (APR), HUD-40110-C, for competitive grantees, and the Consolidated Annual Performance and Evaluation Report (CAPER), HUD-40110-D, for formula grantees, are critical reporting requirements necessary to aggregate individual and national performance data, both program output data and program beneficiary outcomes to inform HUD's strategic management plan goals including requested reports to Congress. The data collection informs local communities on the use of these federal resources and in planning and coordination with other leveraged and available resources.

Respondents: HOPWA program formula and competitive grant recipients and competitive/renewal grant applicants.

Information collection | Number of respondents | Frequency of response | Responses per annum | Burden hour per response | Annual burden hours | Hourly cost per response | Annual cost
HUD-40110-B | 35 | annual | 1 | 12 | 420 | 40 | $16,800
HUD-40110-C | 92 | annual | 1 | 56 | 5,152 | 40 | 206,080
HUD-40110-D | 126 | annual | 1 | 42 | 5,292 | 40 | 211,680
Total | 253 | annual | 1 |  | 10,864 |  | 434,560

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 17, 2014.
Clifford Taffet,
Assistant Secretary for Community Planning and Development (Acting).

[FR Doc. 2014-17562 Filed 7-24-14; 8:45 am]

BILLING CODE 4210-67-P